DEPARTMENT OF ENERGY

Federal Energy Regulatory Commission

Combined Notice of Filings

June 14, 2010.

Take notice that the Commission has received the following Natural Gas Pipeline Rate and Refund Report filings:

Docket Numbers: RP10-836-000.

Applicants: Wyoming Interstate Company, LLC.

Description: Wyoming Interstate Company, LLC submits tariff filing per 154.204: Tariff Update to be effective 6/1/2010.

Filed Date: 06/10/2010.

Accession Number: 20100610-5075.

Comment Date: 5 p.m. Eastern Time on Tuesday, June 22, 2010.

Docket Numbers: RP10-837-000.

Applicants: Dominion Transmission, Inc.

Description: Dominion Transmission, Inc. submits tariff filing per 154.203: DTI 6-11-10 Operational Gas Sales Report to be effective N/A.

Filed Date: 06/11/2010.

Accession Number: 20100611-5016.

Comment Date: 5 p.m. Eastern Time on Wednesday, June 23, 2010.

Docket Numbers: RP10-838-000.

Applicants: Gulfstream Natural Gas System, LLC.

Description: Gulfstream Natural Gas System, LLC submits Second Revised Sheet No 8A to FERC Gas Tariff, Original Volume No. 1, to be effective 6/1/10.

Filed Date: 06/10/2010.

Accession Number: 20100611-0201.

Comment Date: 5 p.m. Eastern Time on Tuesday, June 22, 2010.

Docket Numbers: RP10-839-000.

Applicants: Rockies Express Pipeline LLC.

Description: Rockies Express Pipeline LLC submits tariff filing per 154.203: Baseline to be effective 6/11/2010.

Filed Date: 06/11/2010.

Accession Number: 20100611-5028.

Comment Date: 5 p.m. Eastern Time on Wednesday, June 23, 2010.

Docket Numbers: RP10-840-000.

Applicants: Northern Natural Gas Company.

Description: Northern Natural Gas Company submits Fifth Revised Sheet No. 80B to FERC Gas Tariff, Fifth Revised Volume No. 1, to be effective 7/12/10.

Filed Date: 06/11/2010.

Accession Number: 20100611-0210.

Comment Date: 5 p.m. Eastern Time on Wednesday, June 23, 2010.

Docket Numbers: RP10-841-000.

Applicants: Northern Natural Gas Company.

Description: Northern Natural Gas Company submits First Revised Sheet No 55A et al. to FERC Gas Tariff, Fifth Revised Volume No. 1, to be effective 7/12/10.

Filed Date: 06/11/2010.

Accession Number: 20100611-0209.

Comment Date: 5 p.m. Eastern Time on Wednesday, June 23, 2010.

Docket Numbers: RP10-842-000.

Applicants: Florida Gas Transmission Company, LLC.

Description: Florida Gas Transmission Company, LLC's Third Revised Sheet No. 2 et al. to FERC Gas Tariff, Fourth Revised Volume No. 1, to be effective 7/12/10.

Filed Date: 06/11/2010.

Accession Number: 20100611-0208.

Comment Date: 5 p.m. Eastern Time on Wednesday, June 23, 2010.

Docket Numbers: RP10-843-000.

Applicants: Tennessee Gas Pipeline Company.

Description: Tennessee Gas Pipeline Company submits tariff filing per 154.203: Amend Baseline to be effective 4/19/2010.

Filed Date: 06/11/2010.

Accession Number: 20100611-5035.

Comment Date: 5 p.m. Eastern Time on Wednesday, June 23, 2010.

Docket Numbers: RP10-844-000.

Applicants: Alliance Pipeline LP.

Description: Petition of Alliance Pipeline LP for a Limited Waiver of Tariff Provisions.

Filed Date: 06/11/2010.

Accession Number: 20100611-5081.

Comment Date: 5 p.m. Eastern Time on Wednesday, June 23, 2010.

Docket Numbers: RP10-845-000.

Applicants: Saltville Gas Storage Company LLC.

Description: Saltville Gas Storage Company LLC submits the baseline tariff filing, FERC Gas Tariff, First Revised Volume 1, per 154.203, to be effective 6/14/2010.

Filed Date: 06/14/2010.

Accession Number: 20100614-5020.

Comment Date: 5 p.m. Eastern Time on Monday, June 28, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-15121 Filed 6-21-10; 8:45 am]

BILLING CODE 6717-01-P